DEPARTMENT OF COMMERCE

International Trade Administration

[A-821-808]

Certain Cut-to-Length Carbon Steel Plate From the Russian Federation: Request for Comments

AGENCY: Enforcement & Compliance, International Trade Administration, Commerce.

ACTION: Invitation for Comment on Antidumping Suspension Agreement on Certain Cut-to-Length Carbon Steel Plate from the Russian Federation.

SUMMARY: On May 5, 2015, ArcelorMittal USA, Inc., Nucor Corporation, and SSAB North America Division (collectively, “domestic interested parties”), filed with the U.S. Department of Commerce (“Department”) a request to terminate the 2003 Agreement Suspending the Antidumping Investigation of Certain Cut-to-Length Carbon Steel Plate from the Russian Federation (“Agreement”) (“request to terminate”). For the reasons stated in this notice, the Department is requesting comments on whether suspension of the investigation is no longer in the “public interest” under sections 734(d) and 734(i) of the Tariff Act of 1930, as amended (“Act”).

DATES: Effective: September 24, 2015.

FOR FURTHER INFORMATION CONTACT: Sally C. Gannon or Julie H. Santoboni, Enforcement & Compliance, International Trade Administration, U.S. Department of Commerce, 14th Street and Constitution Avenue NW., Washington, DC 20230, telephone: (202) 482-0162 or (202) 482-3063, respectively.

SUPPLEMENTARY INFORMATION:

Background

In January 2003, the non-market economy suspension agreement signed in October 1997 on cut-to-length carbon steel plate (“CTL plate”) from the Russian Federation was replaced with a market-economy agreement with Russian producers under section 734(b) of the Act. See Suspension of Antidumping Duty Investigation of Certain Cut-to-Length Carbon Steel Plate from the Russian Federation, 68 FR 3859 (Jan. 27, 2003).¹ In entering into the Agreement, the Department determined, under section 734(b) of the Act, that the Agreement would eliminate completely sales at less than fair value of the imported subject merchandise and, under section 734(d) of the Act, that suspension of the investigation was in the “public interest” and could be monitored effectively. Since implementation of the Agreement in 2003, the Department has been calculating semi-annual “normal values” (“NVs”), or minimum selling prices, for Joint Stock Company Severstal (“Severstal”), the one Russian signatory producer that has requested NVs.

¹ The underlying antidumping duty investigation was continued in 1997, and the Department made an affirmative final determination of sales at less than fair value and the International Trade Commission made an affirmative injury determination. See Notice of Final Determination of Sales at Less than Fair Value: Certain Cut-to-Length Carbon Steel Plate from the Russian Federation, 62 FR 61787 (Nov. 19, 1997); Certain Carbon Steel Plate from China, Russia, South Africa and Ukraine, 62 FR 66128 (Dec. 17, 1997).

On May 5, 2015, the domestic interested parties filed a request that the Department terminate the Agreement because it is no longer in the public interest and because Severstal may have violated the Agreement. On May 14, 2015, the Ministry of Economic Development of the Russian Federation (“Economy Ministry”) filed a letter in response to the domestic interested parties' request to terminate the Agreement. On May 18, 2015, Severstal filed a letter in response to the domestic interested parties' request to terminate the Agreement.

Scope of Review

The products covered by the Agreement are CTL plate from the Russian Federation. This merchandise is currently classified in the Harmonized Tariff Schedule of the United States (HTS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Although the HTS subheadings are provided for convenience and customs purposes, our written description of the scope of the Agreement is dispositive. For a full description of the scope of this Agreement, see Appendix B of the Agreement.

Invitation for Comment

As discussed above, the Department has received a request to terminate the Agreement from the domestic interested parties and is currently evaluating the request. The Agreement, at Section F, provides that “{i}f the Department determines that the Agreement is being or has been violated or no longer meets the requirements of section 734(b) or (d) of the Act, the Department shall take action it determines appropriate under section 734(i) of the Act and the regulations.”

Section 734(i) of the Act provides that where, as here, the investigation was completed, the Department shall publish a determination suspending liquidation and issue an antidumping order under section 736(a) of the Act if the Department determines that there has been a violation of the Agreement, or the Agreement no longer meets certain statutory requirements, including the “public interest” requirement under section 734(d)(1) of the Act. The Department's regulations at 19 CFR 351.209(c)(1) state that if the Department has reason to believe that a suspension agreement no longer meets the requirements of section 734(d) of the Act, including if suspension of the investigation is no longer in the “public interest,” it will publish a notice inviting comment on the suspension agreement. Based on the request to terminate, we find that the requirements of 19 CFR 351.209(c)(1) have been met, and as such, are issuing this notice to seek comments to determine if suspension of the investigation is no longer in the “public interest.” Although the domestic interested parties alleged that Severstal may have violated the terms of the Agreement, we are not soliciting comments on the alleged violation.

The Department will make its determination and if appropriate, take necessary action, in accordance with section 734(i) of the Act and 19 CFR 351.209(c). Further, in making our determination, the Department will consider imports into the United States from all sources of the merchandise, as described in Section A of the Agreement. We also will consider factors including, but not limited to, the following: volume of trade, pattern of trade, whether or not the reseller is an original equipment manufacturer, and the reseller's export price. See Agreement, Section B.

Public Comment

Interested parties may submit comments on whether the Agreement is in the public interest via Enforcement & Compliance's Antidumping and Countervailing Duty Centralized Electronic Service System (“ACCESS”) no later than 30 days after the date of publication of this notice by 5 p.m. Eastern Daylight Time.² Rebuttal comments, limited to issues raised in the affirmative comments, may be submitted via ACCESS no later than 45 days after the date of publication of this notice by 5 p.m. Eastern Daylight Time.

² ACCESS is available to registered users at http://access.trade.gov, and is available to all parties in the Central Records Unit, room 7046 of the main Department of Commerce building.

When submitting comments via ACCESS, interested parties must upload their submissions to the segment in ACCESS entitled “Suspension Agreement.” The Department intends to address any comments in its determination.

Dated: September 18, 2015.
Ronald K. Lorentzen,
Acting Assistant Secretary for Enforcement & Compliance.

[FR Doc. 2015-24329 Filed 9-23-15; 8:45 am]

BILLING CODE 3510-DS-P